DEPARTMENT OF HEALTH AND HUMAN SERVICES

Health Resources and Services Administration

Notice of Supplemental Award; Infant-Toddler Court Program—National Resource Center

AGENCY: Health Resources and Services Administration (HRSA), Department of Health and Human Services.

ACTION: Notice of supplemental award.

SUMMARY: HRSA is providing up to $1,750,000 in supplemental award funds in federal fiscal year (FY) 2024 to the current recipient of the Infant-Toddler Court Program (ITCP)—National Resource Center (NRC) award, to expand activities to help lead nationwide improvements to child welfare and early childhood systems.

FOR FURTHER INFORMATION CONTACT: Kateryna Zoubak, Early Childhood Systems Analyst, Division of Home Visiting and Early Childhood Systems, Maternal and Child Health Bureau, HRSA, at ezoubak@hrsa.gov or 240-475-8014.

SUPPLEMENTARY INFORMATION:

Intended Recipient of the Award: ZERO TO THREE National Center for Infant, Toddler and Families, Inc.

Amount of Non-Competitive Award(s): One award of up to $1,750,000.

Project Period: September 30, 2022, to September 29, 2027.

Assistance Listing (CFDA) Number: 93.110.

Award Instrument: Non-competitive supplemental funding to the existing Cooperative Agreement.

Authority: 42 U.S.C. 701(a)(2) (title V, sec. 501(a)(2) of the Social Security Act)

Table 1—Recipients and Award Amounts
Grant number | Award recipient name | City, state | Award amount
U2DMC32394 | ZERO TO THREE National Center for Infant, Toddler and Families, Inc. | Washington, DC | Up to $1,750,000.

Justification: The FY 2023 and 2024 appropriations for Maternal and Child Health Block Grant Special Projects of Regional and National Significance increased funding for the ITCP, compared to the FY 2022 enacted level when the most recent new awards were made. A Congressional Report accompanying the Further Consolidated Appropriations Act, 2024 (Pub. L. 118-47) indicated the funding would “continue and expand research-based Infant-Toddler Court Teams to change child welfare practices to improve wellbeing for infants, toddlers, and their families” (Senate Report 118-84). Consistent with this language, HRSA plans to use this funding to continue work initiated in FY 2023 by the ITCP NRC to expand subawards and technical assistance to ITCP teams and advance reach and impact of the program. Activities included financial and technical support for infant-toddler court sites that previously received funding under announcement number HRSA-18-123, but that do not currently receive HRSA funding under announcement number HRSA-22-073/074.

The planned supplemental award to the ITCP NRC will be used for project activities within the scope of the most recent funding opportunity (HRSA-22-074), to continue and expand current technical assistance, evaluation and evidence-building activities, and implementation support to local ITCP sites. Supplemental funding for similar activities may be considered in future years, subject to the availability of funding for the activity and satisfactory performance.

Carole Johnson,
Administrator.

[FR Doc. 2024-17663 Filed 8-8-24; 8:45 am]

BILLING CODE 4165-15-P